DEPARTMENT OF ENERGY

Federal Energy Regulatory Commission

Combined Notice of Filings #1

Take notice that the Commission received the following electric corporate filings:

Docket Numbers: EC13-56-001.

Applicants: Wisconsin Public Service Corporation.

Description: Wisconsin Public Service Corporation resubmits compliance filing to the January 29, 2013 Commission Order.

Filed Date: 3/28/13.

Accession Number: 20130328-5243.

Comments Due: 5 p.m. ET 4/18/13.

Take notice that the Commission received the following electric rate filings:

Docket Numbers: ER10-1707-002; ER11-3623-001; ER11-3460-003.

Applicants: Hess Corporation, Hess Small Business Services LLC, Bayonne Energy Center, LLC.

Description: Supplement to January 24, 2013 Notice of Change in Status of Hess Corporation, et al.

Filed Date: 2/25/13.

Accession Number: 20130225-5158.

Comments Due: 5 p.m. ET 4/19/13.

Docket Numbers: ER13-894-000.

Applicants: Puget Sound Energy, Inc.

Description: FCSP ER11-3735 and ER13-894 to be effective N/A.

Filed Date: 3/25/13.

Accession Number: 20130325-5120.

Comments Due: 5 p.m. ET 4/15/13.

Docket Numbers: ER13-1047-001.

Applicants: Tesoro Refining & Marketing Company LLC.

Description: Amended MBR Tariff Filing to be effective 5/1/2013.

Filed Date: 3/28/13.

Accession Number: 20130328-5217.

Comments Due: 5 p.m. ET 4/18/13.

Docket Numbers: ER13-1101-001.

Applicants: Spectrum Nevada Solar, LLC.

Description: Amendment to Application and Initial Baseline Tariff Filing to be effective 4/24/2013.

Filed Date: 3/28/13.

Accession Number: 20130328-5178.

Comments Due: 5 p.m. ET 4/18/13.

Docket Numbers: ER13-1105-001.

Applicants: Duke Energy Carolinas, LLC.

Description: Joint OATT Florida CWIP Filing Amendment to be effective 7/2/2012.

Filed Date: 3/28/13.

Accession Number: 20130328-5167.

Comments Due: 5 p.m. ET 4/18/13.

Docket Numbers: ER13-1175-000.

Applicants: Wyoming Colorado Intertie, LLC.

Description: Revision to WCI—WWP Revised TSA to be effective 3/29/2013.

Filed Date: 3/28/13.

Accession Number: 20130328-5185.

Comments Due: 5 p.m. ET 4/18/13.

Docket Numbers: ER13-1176-000.

Applicants: New England Power Company.

Description: Interconnection Agreement Between New England Power Co. and Ware Cogen to be effective 3/15/2013.

Filed Date: 3/28/13.

Accession Number: 20130328-5196.

Comments Due: 5 p.m. ET 4/18/13.

Docket Numbers: ER13-1177-000.

Applicants: East Kentucky Power Cooperative, Inc., PJM Interconnection, L.L.C.

Description: Revisions to the PJM OATT, OA & RAA re EKPC Integration to be effective 6/1/2013.

Filed Date: 3/28/13.

Accession Number: 20130328-5210.

Comments Due: 5 p.m. ET 4/18/13.

Docket Numbers: ER13-1178-000.

Applicants: East Kentucky Power Cooperative, Inc., PJM Interconnection, L.L.C.

Description: Revisions to the PJM CTOA re EKPC Integration to be effective 6/1/2013.

Filed Date: 3/28/13.

Accession Number: 20130328-5212.

Comments Due: 5 p.m. ET 4/18/13.

Docket Numbers: ER13-1179-000.

Applicants: East Kentucky Power Cooperative, Inc., PJM Interconnection, L.L.C.

Description: EKPC submits PJM SAs 3517 and 3518 re EKPC Integration to be effective 6/1/2013.

Filed Date: 3/28/13.

Accession Number: 20130328-5213.

Comments Due: 5 p.m. ET 4/18/13.

Docket Numbers: ER13-1180-000.

Applicants: PacifiCorp.

Description: PacifiCorp Energy Carbon Decommissioning Construction Agmt to be effective 3/29/2013.

Filed Date: 3/28/13.

Accession Number: 20130328-5222.

Comments Due: 5 p.m. ET 4/18/13.

Docket Numbers: ER13-1181-000.

Applicants: Midwest Independent Transmission System Operator, Inc.

Description: 03-28-2013 Attachment O-ATCLLC to be effective 5/27/2013.

Filed Date: 3/28/13.

Accession Number: 20130328-5240.

Comments Due: 5 p.m. ET 4/18/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 29, 2013.
Nathaniel J. Davis, Sr.,
Deputy Secretary.

[FR Doc. 2013-08062 Filed 4-5-13; 8:45 am]

BILLING CODE 6717-01-P